DEPARTMENT OF HEALTH AND HUMAN SERVICES

42 CFR Part 71

[Docket No. CDC-2011-0001]

RIN 0920-AA23

Requirements for Importers of Nonhuman Primates

AGENCY: Centers for Disease Control and Prevention (CDC), Department of Health and Human Services (HHS).

ACTION: Proposed rule; extension of public comment period.

SUMMARY: On January 5, 2011 HHS/CDC published a Notice of Proposed Rulemaking (NPRM) in the Federal Register (76 FR 678) proposing to amend its regulations (42 CFR 71.53) for the importation of live nonhuman primates (NHPs). Written comments were to be received on or before March 7, 2011. We have received a request asking for a 45 day extension of the comment period. In consideration of that request, HHS/CDC is extending the comment period by 45 days to April 25, 2011.

DATES: Written or electronic comments must be received on or before April 25, 2011. Written or electronic comments on the proposed information collection requirements must also be submitted on or before April 25, 2011. Please refer to SUPPLEMENTARY INFORMATION for additional information.

ADDRESSES: Written comments, identified by Docket No. CDC-2011-0001, may be submitted to the following address: Centers for Disease Control and Prevention, Division of Global Migration and Quarantine, ATTN: NHP Rule Comments, 1600 Clifton Road, NE., (E03), Atlanta, GA 30333. Comments will be available for public inspection Monday through Friday, except for legal holidays, from 9 a.m. until 5 p.m., Eastern Time, at 1600 Clifton Road, NE., Atlanta, GA 30333. Please call ahead to 1-866-694-4867 and ask for a representative in the Division of Global Migration and Quarantine (DGMQ) to schedule your visit. Comments also may be viewed at http://www.cdc.gov/ncidod/dq. Written comments may be submitted electronically via the Internet at http://www.regulations.gov or via e-mail to NHPPublicComments@cdc.gov. All comments received will be posted publicly without change, including any personal or proprietary information provided. To download an electronic version of the rule, access http://www.regulations.gov.

Mail written comments on the proposed information collection requirements to the following address: Office of Information and Regulatory Affairs, OMB, New Executive Office Building, 725 17th Street, NW., rm. 10235, Washington, DC 20503, Attn: Desk Officer for CDC.

FOR FURTHER INFORMATION CONTACT: Ashley A. Marrone, J.D., U.S. Department of Health and Human Services, Centers for Disease Control and Prevention, Division of Global Migration and Quarantine, 1600 Clifton Road, NE., Mailstop E-03, Atlanta, GA 30333, Telephone, 404-498-1600.

SUPPLEMENTARY INFORMATION: On January 5, 2011 HHS/CDC published a Notice of Proposed Rulemaking (NPRM) in the Federal Register (76 FR 678) proposing to amend its regulations (42 CFR 71.53) for the imporation of live nonhuman primates (NHPs) by extending existing requirements for the importation of Macaca fascicularis (cyanmologus), Chlororcebus aethlops (African green) and Macaca mulatta (rhesus) monkeys to all NHPs. Filovirus testing would continue to be required only for Old World NHPs. In the NPRM, HHS/CDC also proposed to reduce the frequency at which importers of cynomolgus, African green, and rhesus monkeys are required to renew their registrations, from every 180 days to every two years. HHS/CDC proposed to incorporate existing guidelines into the regulations and add new provisions to address: (1) NHPs imported as part of a trained animal act; (2) NHPs imported or transferred by zoological societies; (3) The transfer of NHPs from approved laboratories; and (4) Non-live imported NHP products. Finally, HHS/CDC proposed that all NHPs be imported only through ports of entry where a CDC quarantine station is located. HHS/CDC provided a 60 day public comment period. Written comments were to be received on or before March 7, 2011. We have received a request asking for a 45 day extension of the comment period. In consideration of that request, HHS/CDC is extending the comment period by 45 days to April 25, 2011.

HHS/CDC's general policy for comments and other submissions from members of the public is to make these submissions available for public viewing on the Internet as they are received and without change, including any personal identifiers or contact information.

HHS/CDC has posted the NPRM and related materials on their Web site found at http://www.cdc.gov/ncpdcid/dgmq/index.html.

Dated: March 4, 2011.
Kathleen Sebelius,
Secretary.

[FR Doc. 2011-5457 Filed 3-9-11; 8:45 am]

BILLING CODE 4163-18-P